DEPARTMENT OF HEALTH AND HUMAN SERVICES

Health Resources and Services Administration

Agency Information Collection Activities: Proposed Collection: Comment Request Information Collection Request Title: Survey of Eligible Users of the National Practitioner Data Bank, OMB No. 0915-0366—Reinstatement With Change

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than December 15, 2020.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Survey of Eligible Users of the National Practitioner Data Bank, OMB No. 0915-0366—Reinstatement With Change.

Abstract: HRSA plans to survey the users National Practitioner Data Bank (NPDB). The purpose of this survey is to assess the overall satisfaction of the eligible users of the NPDB. This survey will evaluate the effectiveness of the NPDB as a flagging system, source of information, and its use in decision making. Furthermore, this survey will collect information from organizations and individuals who query the NPDB to understand and improve their user experience. This survey is a reinstatement of the 2012 NPDB survey with some changes.

Need and Proposed Use of the Information: The survey will collect information regarding the participants' experiences of querying and reporting to the NPDB, perceptions of health care practitioners with reports, impact of NPDB reports on organizations' decision-making, and satisfaction with various NPDB products and services.

The survey will also be administered to health care practitioners that use the self-query service provided by the NPDB. The self-queriers will be asked about their experiences of querying, the impact of having reports in the NPDB on their careers and health care organizations' perceptions, and their satisfaction with various NPDB products and services. Understanding self-queriers' satisfaction and their use of the information is an important component of the survey.

Proposed changes to this ICR include the following:

1. In the proposed entity survey, there are 37 modules and 258 questions. From the previous 2012 survey, there are 15 deleted questions and 13 new questions in addition to proposed changes to 12 survey questions.

2. In the proposed self-query survey, there are 22 modules and 88 questions. From the previous 2012 survey, there are 5 deleted questions and 5 new questions in addition to proposed changes to two survey questions.

Likely Respondents: Eligible users of the NPDB will be asked to complete a web-based survey. Data gathered from the survey will be compared with previous survey results. This survey will provide HRSA with the information necessary for research purposes and for improving the usability and effectiveness of the NPDB.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this Information Collection Request are summarized in the table below.

Total Estimated Annualized Burden Hours
Form name | Number of respondents | Number of responses per respondent | Total responses | Average burden per response (in hours) | Total burden hours
NPDB Users Entities Respondents | 15,000 | 1 | 15,000 | 0.25 | 3,750
NPDB Self-Query Respondents | 2,000 | 1 | 2,000 | 0.10 | 200
Total | 17,000 |  | 17,000 |  | 3,950

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-22964 Filed 10-15-20; 8:45 am]

BILLING CODE 4165-15-P